FEDERAL COMMUNICATIONS COMMISSION

47 CFR Part 73

[MB Docket No. 21-57; RM-11882; DA 21-166; FR ID 17556]

Television Broadcasting Services; Savannah, Georgia; Correction

AGENCY: Federal Communications Commission.

ACTION: Proposed rule; correction.

SUMMARY: The Federal Communications Commission published a document in the Federal Register of March 5, 2021, concerning a petition for rulemaking filed by Gray Television Licensee, LLC (Gray) requesting the substitution of channel 23 for channel 11 at Savannah, Georgia in the DTV Table of Allotments. The document contained the incorrect address for counsel of petitioner.

DATES: March 22, 2021.

FOR FURTHER INFORMATION CONTACT: Andrew Manley, Andrew.Manley@fcc.gov, Media Bureau, (202) 418-0596.

SUPPLEMENTARY INFORMATION:

Correction

In FR Doc. 2021-04635, in the Federal Register of March 5, 2021, on page 12898, in the third column, correct the Address caption to read:

ADDRESSES: Federal Communications Commission, Office of the Secretary, 45 L Street NE, Washington, DC 20554. In addition to filing comments with the FCC, interested parties should serve counsel for petitioner as follows: Joan Stewart, Esq., Wiley Rein LLP, 1776 K Street NW, Washington, DC 20006.

Dated: March 9, 2021.
Thomas Horan,
Chief of Staff, Media Bureau.

[FR Doc. 2021-05421 Filed 3-19-21; 8:45 am]

BILLING CODE 6712-01-P